ENVIRONMENTAL PROTECTION AGENCY

40 CFR Parts 413, 433, 438, 463, 464, 467, and 471

[FRL-6971-6]

RIN 2040-AB79

Extension of Comment Period on the Proposed Effluent Limitations Guidelines, Pretreatment Standards, and New Source Performance Standards for the Metal Products and Machinery Point Source Category

AGENCY: Environmental Protection Agency (EPA).

ACTION: Extension of comment period on proposed rule.

SUMMARY: On January 3, 2001 (66 FR 424), EPA proposed effluent limitations guidelines and pretreatment standards for wastewater discharges associated with the operation of new and existing metal products and machinery facilities. The original comment period was 120 days, ending on May 3, 2001. The comment period will now end 60 days later on July 2, 2001.

DATES: Comments on the proposed rule will be accepted through July 2, 2001.

ADDRESSES: Submit written comments to Mr. Michael Ebner, Office of Water, Engineering and Analysis Division (4303), U.S. EPA, 1200 Pennsylvania Ave., NW., Washington, DC 20460 if by mail and to Mr. Michael Ebner, U.S. EPA, 401 M St., SW., Room 611 West Tower, Washington, DC 20460 if by hand delivery. Comments may also be sent via e-mail to mpm.comments@epa.gov. Please submit any references cited in your comments. EPA requests an original and three copies of your comments and enclosures (including references). Commenters who want EPA to acknowledge receipt of their comments should enclose a self-addressed, stamped envelope. No facsimiles (faxes) will be accepted.

FOR FURTHER INFORMATION CONTACT: Mr. Michael Ebner at (202) 260-5397 or Ms. Shari Barash at (202) 260-7130.

SUPPLEMENTARY INFORMATION: In the public record for the final MP&M regulation, EPA will respond to comments from the 1995 Phase I proposal as well as the current proposal. Therefore, comments submitted on the Phase I rule do not need to be resubmitted in response to today's action.

Dated: April 17, 2001.
Diane C. Regas,
Acting Assistant Administrator for Water.

[FR Doc. 01-10511 Filed 4-26-01; 8:45 am]

BILLING CODE 6560-50-P